DEPARTMENT OF AGRICULTURE

Rural Business—Cooperative Service

Inviting Applications for Renewable Energy Systems and Energy Efficiency Improvements Grants and Guaranteed Loans

AGENCY: Rural Business—Cooperative Service (RBS), USDA

ACTION: Notice.

SUMMARY: Rural Business—Cooperative Service (RBS), an Agency within USDA Rural Development, announces it is accepting applications for fiscal year (FY) 2007 to purchase renewable energy systems and make energy efficiency improvements for agriculture producers and rural small businesses in eligible rural areas. Funding will be available in the form of grants, guaranteed loans, and combined guaranteed loans and grant applications.

For renewable energy systems, the minimum grant request is $2,500 and the maximum is $500,000. For energy efficiency improvements, the minimum grant request is $1,500 and the maximum is $250,000. The maximum amount of a guaranteed loan made to a borrower will be $10 million. Fifty percent of the available grant funding will be reserved for the grant portion of combination grant and guaranteed loan applications. For FY 2007, the guarantee fee amount is 1 percent of the guaranteed portion of the loan and the annual renewal fee is 0.125 percent (one-eighth of one percent) of the guaranteed portion of the loan.

DATES: The United States Department of Agriculture (USDA) will conduct one competitive grant solicitation in FY 2007.

Grants

Applications must be completed and submitted to the appropriate USDA Rural Development State Office no later than May 18, 2007. Any unused guaranteed loan funding as of August 1, 2007, may be pooled and revert to grant funding. It is anticipated that grant award announcements will be made approximately 75 days following the submission deadline.

Guaranteed Loans and Combined Guaranteed Loans and Grants

Applications for guaranteed loans as well as combined guaranteed loan and grant packages must be completed and submitted to the appropriate USDA Rural Development State Office no later than July 2, 2007. Combined guaranteed loan and grant packages will compete and be awarded on a bi-weekly basis. Guaranteed loan applications will be accepted and processed in a rolling application manner.

The application closing deadlines for grants, guaranteed loans and combined guaranteed loan and grant packages are firm. USDA Rural Development will not consider any application that is received after the closing deadline. In accordance with RD Instruction 1940-G, all environmental assessments must be completed before the State Office forwards the application to the National Office for funding consideration.

ADDRESSES: Submit applications to the USDA Rural Development State Office in the State where your project is located. A list of the USDA Rural Development State Offices and Energy Coordinators addresses and telephone numbers follow. For further information about this solicitation, please contact the applicable State Office. This document is available on our Web site at http://www.rurdev.usda.gov/rbs/farmbill/index.html.

USDA State Rural Development Offices

Alabama

Mary Ann Clayton, USDA Rural Development, Sterling Centre, Suite 601, 4121 Carmichael Road, Montgomery, AL 36106-3683, (334) 279-3615.

Alaska

Dean Stewart, USDA Rural Development, 800 West Evergreen, Suite 201, Palmer, AK 99645-6539, (907) 761-7722.

Arizona

Alan Watt, USDA Rural Development, 230 North First Avenue, Suite 206, Phoenix, AZ 85003-1706, (602) 280-8769.

Arkansas

Shirley Tucker, USDA Rural Development, 700 West Capitol Avenue, Room 3416, Little Rock, AR 72201-3225, (501) 301-3280.

California

Charles Clendenin, USDA Rural Development, 430 G Street, AGCY 4169, Davis, CA 95616, (530) 792-5825.

Colorado

April Dahlager, USDA Rural Development, 655 Parfet Street, Room E-100, Lakewood, CO 80215, (720) 544-2909.

Delaware-Maryland

James Waters, USDA Rural Development, 1221 College Park Drive, Suite 200, Dover, DE 19904, (302) 857-3626.

Florida/Virgin Islands

Joe Mueller, USDA Rural Development, 4440 NW. 25th Place, P.O. Box 147010, Gainesville, FL 32614-7010, (352) 338-3482.

Georgia

J. Craig Scroggs, USDA Rural Development, 333 Phillips Drive, McDonough, GA 30253, (678) 583-0866.

Hawaii

Tim O'Connell, USDA Rural Development, Federal Building, Room 311, 154 Waianuenue Avenue, Hilo, HI 96720, (808) 933-8313.

Idaho

Brian Buch, USDA Rural Development, 725 Jensen Grove Drive, Suite 1, Blackfoot, ID 83221, (208) 785-5840, Ext. 118.

Illinois

Molly Hammond, USDA Rural Development, 2118 West Park Court, Suite A, Champaign, IL 61821, (217) 403-6210.

Indiana

Jerry Hay, USDA Rural Development, 2411 N. 1250 W., Deputy, IN 47230, (812) 873-1100.

Iowa

Teresa Bomhoff, USDA Rural Development, 873 Federal Building, 210 Walnut Street, Des Moines, IA 50309, (515) 284-4447.

Kansas

F. Martin Fee, USDA Rural Development, 1303 SW First American Place, Suite 100, Topeka, KS 66604-4040, (785) 271-2744.

Kentucky

Scott Mass, USDA Rural Development, 771 Corporate Drive, Suite 200, Lexington, KY 40503, (859) 224-7435.

Louisiana

Kevin Boone, USDA Rural Development, 905 Jefferson Street, Suite 320, Lafayette, LA 70501, (337) 262-6601.

Maine

John F. Sheehan, USDA Rural Development, 967 Illinois Avenue, Suite 4, P.O. Box 405, Bangor, ME 04402-0405, (207) 990-9168.

Massachusetts/Rhode Island/Connecticut

Sharon Colburn, USDA Rural Development, 451 West Street, Suite 2, Amherst, MA 01002-2999, (413) 253-4303.

Michigan,

Rick Vanderbeek, USDA Rural Development, 3001 Coolidge Road, Suite 200, East Lansing, MI 48823, (517) 324-5218.

Minnesota

Lisa Noty, USDA Rural Development, 1400 West Main Street, Albert Lea, MN 56007, (507) 373-7960 Ext. 120.

Mississippi

G. Gary Jones, USDA Rural Development, Federal Building, Suite 831, 100 West Capitol Street, Jackson, MS 39269, (601) 965-5457.

Missouri

Matt Moore, USDA Rural Development, 601 Business Loop 70 West, Parkade Center, Suite 235, Columbia, MO 65203, (573) 876-9321.

Montana

John Guthmiller, USDA Rural Development, 900 Technology Blvd., Unit 1, Suite B, P.O. Box 850, Bozeman, MT 59771, (406) 585-2540.

Nebraska

Karissa Hagedorn, USDA Rural Development, 100 Centennial Mall North, Room 152, Federal Building, Lincoln, NE 68508, (402) 437-5568.

Nevada

Dan Johnson, USDA Rural Development, 555 West Silver Street, Suite 101, Elko, NV 89801, (775) 738-8468, Ext. 112.

New Hampshire (See Vermont)

New Jersey

Victoria Fekete, USDA Rural Development, 8000 Midlantic Drive, 5th Floor North, Suite 500, Mt. Laurel, NJ 08054, (856) 787-7753.

New Mexico

Eric Vigil, USDA Rural Development, 6200 Jefferson Street, NE, Room 255, Albuquerque, NM 87109, (505) 761-4952.

New York

Thomas Hauryski, USDA Rural Development, 415 West Morris Street, Bath, NY 14810, (607) 776-7398 Ext. 132.

North Carolina

H. Rossie Bullock, USDA Rural Development, 4405 Bland Road, Suite 260, Raleigh, NC 27609, (910) 739-3349 Ext. 4.

North Dakota

Mark Wax, USDA Rural Development, Federal Building, Room 208, 220 East Rosser Avenue, P.O. Box 1737, Bismarck, ND 58502-1737, (701) 530-2029.

Ohio

Randy Monhemius, USDA Rural Development, Federal Building, Room 507, 200 North High Street, Columbus, OH 43215-2418, (614) 255-2424.

Oklahoma

Jody Harris, USDA Rural Development, 100 USDA, Suite 108, Stillwater, OK 74074-2654, (405) 742-1036.

Oregon

Don Hollis, USDA Rural Development, 1229 SE Third Street, Suite A, Pendleton, OR 97801-4198, (541) 278-8049, Ext. 129.

Pennsylvania

Bernard Linn, USDA Rural Development, One Credit Union Place, Suite 330, Harrisburg, PA 17110-2996, (717) 237-2182 .

Puerto Rico

Luis Garcia, USDA Rural Development, IBM Building, 654 Munoz Rivera Avenue, Suite 601, Hato Rey, PR 00918-6106, (787) 766-5091, Ext. 251.

South Carolina

R. Gregg White, USDA Rural Development, Strom Thurmond Federal Building, 1835 Assembly Street, Room 1007, Columbia, SC 29201, (803) 765-5881.

South Dakota

Gary Korzan, USDA Rural Development, Federal Building, Room 210, 200 4th Street, SW., Huron, SD 57350, (605) 352-1142.

Tennessee

Will Dodson, USDA Rural Development, 3322 West End Avenue, Suite 300, Nashville, TN 37203-1084, (615) 783-1350.

Texas

Daniel Torres, USDA Rural Development, Federal Building, Suite 102, South Main Street, Temple, TX 76501, (254) 742-9756.

Utah

Richard Carrig, USDA Rural Development, Wallace F. Bennett Federal Building, 125 South State Street, Room 4311, Salt Lake City, UT 84111, (801) 524-4328.

Vermont/New Hampshire

Lyn Millhiser, USDA Rural Development, City Center, 3rd Floor, 89 Main Street, Montpelier, VT 05602, (802) 828-6069.

Virginia

Laurette Tucker, USDA Rural Development, Culpeper Building, Suite 238, 1606 Santa Rosa Road, Richmond, VA 23229, (804) 287-1594.

Washington

Tuana Jones, USDA Rural Development, 1835 Black Lake Blvd. SW., Suite B, Olympia, WA 98512, (360) 704-7707.

West Virginia

Cheryl Wolfe, USDA Rural Development, 75 High Street, Room 320, Morgantown, WV 26505-7500, (304) 284-4882.

Wisconsin

Kelley Oehler, USDA Rural Development, 4949 Kirschling Court, Stevens Point, WI 54481, (715) 345-7615, Ext. 141.

Wyoming

Milton Geiger, USDA Rural Development, Dick Cheney Federal Building, 100 East B Street, Room 1005, P.O. Box 820, Casper, WY 82602, (307) 672-5820 Ext. 4.

SUPPLEMENTARY INFORMATION: This solicitation is issued pursuant to Section 9006 of the Farm Security and Rural Investment Act of 2002 (2002 Act), which established the Renewable Energy Systems and Energy Efficiency Improvements Program. The program is designed to help agricultural producers and rural small businesses reduce energy costs and consumption and help meet the Nation's critical energy needs. The 2002 Act mandates the maximum percentage USDA Rural Development will provide in funding for these types of projects. USDA Rural Development grants under this program will not exceed 25 percent of the eligible project costs. USDA Rural Development guaranteed loans will not exceed 50 percent of the eligible project costs. USDA Rural Development combined grant and guaranteed loan funding packages will not exceed 50 percent of eligible project cost, with the grant portion not to exceed 25 percent of eligible project costs.

As stated in 7 CFR 4280.108, projects must be for a pre-commercial or commercially available technology. In accordance with the definition of “commercially available” found in 7 CFR 4280.103, a proven operating history specific to the proposed application may be established domestically or outside of the United States (US). If the system is available commercially outside the U.S., applicants must provide authoritative evidence of the operating history, performance, and reliability. Additionally, applicants must provide evidence that professional service providers, trades, large construction equipment providers and labor are readily available domestically and familiar with installation procedures and practices, and spare parts and service are readily available in the U.S. to properly maintain and operate the system. All warranties must be valid in the U.S.

In accordance with the definition of “pre-commercial” technology found in 7 CFR 4280.103, technical and economic potential for commercial application must be demonstrated to the Agency's satisfaction through a documented operating history which may be established domestically or outside of the U.S., specific to the proposed application and at scalable size. To demonstrate that the system has emerged through research and development as well as the demonstration process, applicants must provide to the Agency's satisfaction, authoritative evidence of the operating history, performance, and reliability past completion of start-up, shake-down, and/or commissioning. Typically, and inline with performance evaluation protocol, the documented operating history should provide performance data for a duration of 12 months. In accordance with demonstrating the potential for commercial application, applicants must provide evidence that professional service providers, trades, large construction equipment providers, and labor are potentially available domestically and sufficiently familiar with installation procedures and practices, and spare parts and service are available in the U.S. to properly maintain and operate the system. Any warranties would have to be valid in the U.S.

Information required to be in the grant application package is contained in 7 CFR 4280.111. Awards are made on a competitive basis using specific evaluation criteria contained in 7 CFR 4280.112(e). To ensure that projects are accurately scored by USDA, applicants are requested to tab and number each evaluation criteria and include in that section, its corresponding supporting documentation and calculations according to 7 CFR 4280.112. Only projects that have completed the environmental review process according to 7 CFR 4280.114(d), demonstrated project eligibility according to 7 CFR 4280.108, and demonstrated technical feasibility will be eligible for funding consideration.

State Offices will submit eligible grant funding requests, with the State Office executed score sheets, including supporting documentation to the National Office for funding consideration.

To reduce scoring bias by technology and scale, a standard statistical normalization process will be applied to all competitive grant application scores. All applicants will be notified by the USDA Rural Development State Offices of the Agency's decision on the awards.

Information required to be in the guaranteed loan application and the combination guaranteed loan and grant application package is contained in 7 CFR 4280.128 and 7 CFR 4280.193(c), respectively. Guaranteed loan applications are received and processed on a rolling basis until funds are exhausted. Combined guaranteed loans and grant packages compete bi-weekly at the national level and are awarded on a bi-weekly basis until funds are exhausted. All applicants will be notified by the USDA Rural Development State Offices in regards to the Agency's decision on their application.

This program is listed in the Catalog of Federal Domestic Assistance under Number 10.775 and is subject to the provisions of Executive Order 12372, which requires intergovernmental consultation with State and local officials.

USDA is participating as a partner in the government-wide Grants.gov site. Applicants may submit grant-only applications to the Agency in either electronic or paper format. Please be mindful that the application deadline for electronic format differs from the deadline for paper format. The electronic format deadline will be based on Washington, DC time. The paper format deadline is local time for each USDA Rural Development State Office.

Users of Grants.gov will be able to download a copy of the application package, complete it off line, and then upload and submit the application via the Grants.gov site. You may not e-mail an electronic copy of a grant application to USDA Rural Development; however, the Agency encourages your participation in Grants.gov.

• When you enter the Grants.gov site, you will find information about submitting an application electronically through the site as well as the hours of operation. USDA Rural Development strongly recommends that you do not wait until the application deadline date to begin the application process through Grants.gov. To use Grants.gov, applicants must have a Dun and Bradstreet Data Universal Numbering System (DUNS) number which can be obtained at no cost via a toll-free request line at 1-866-705-5711 or online at http://fedgov.dnb.com/webform.

• You may submit all documents electronically through the Web site, including all information typically included on the application for Renewable Energy Systems and Energy Efficiency Improvements Program, and all necessary assurances and certifications. After electronically submitting an application through the Web site, the applicant will receive an automatic acknowledgement from Grants.gov that contains a Grants.gov tracking number.

• USDA Rural Development may request that the applicant provide original signatures on forms at a later date.

• If applicants experience technical difficulties on the closing date and are unable to meet the 5 p.m. (Washington, DC time) deadline, print out your application and submit it to your respective State Office. If applicants submit applications to a State Office, applicants must meet the closing date and local time deadlines.

Applicants may access the electronic grant application for Renewable Energy Systems and Energy Efficiency Improvements Program at http://www.Grants.gov.

Please note that applicants must locate the downloadable application package for this program by the CFDA Number or FedGrants Funding Opportunity Number, which can be found at http://www.Grants.gov.

Paperwork Reduction Act

In accordance with the Paperwork Reduction Act, the paperwork burden has been cleared by the Office of Management and Budget (OMB) under OMB Control Number 0570-0050.

Nondiscrimination Statement

USDA prohibits discrimination in all its programs and activities on the basis of race, color, national origin, age, disability, and where applicable, sex, marital status, familial status, parental status, religion, sexual orientation, genetic information, political beliefs, reprisal, or because all or part of an individual's income is derived from any public assistance program. (Not all prohibited bases apply to all programs.) Persons with disabilities who require alternative means for communication of program information (braille, large print, audiotape, etc.) should contact USDA's TARGET Center at (202) 720-2600 (voice and TDD).

To file a complaint of discrimination, write to USDA, Director, Office of Civil Rights, 1400 Independence Avenue, SW., Washington, DC 20250-9410, or call (800) 795-3272 (voice), or (202) 720-6382 (TDD). “USDA is an equal opportunity provider, employer, and lender.”

Dated: March 8, 2007.
Ben Anderson,
Acting Administrator, Rural Business—Cooperative Service.

[FR Doc. E7-5198 Filed 3-21-07; 8:45 am]

BILLING CODE 3410-XY-P